NATIONAL AERONAUTICS AND SPACE ADMINISTRATION

[Notice 02-134]

Government-Owned Inventions, Available for Licensing

ACTION: Notice of availability of inventions for licensing.

SUMMARY: The invention listed below is assigned to the National Aeronautics and Space Administration, has been filed in the United States Patent and Trademark Office, and is available for licensing.

DATES: November 12, 2002.

FOR FURTHER INFORMATION CONTACT: Bryan Geurts, Goddard Space Flight Center, Mail Code 503, Greenbelt, MD 20771; telephone (301) 286-7351; fax (301) 286-9502.

NASA Case No. GSC-14525-1: Passive Gas-Gap Heat Switches For Use With Adiabatic Demagnetization Refrigerators.

Dated: November 4, 2002.
Robert M. Stephens,
Deputy General Counsel.

[FR Doc. 02-28562 Filed 11-8-02; 8:45 am]

BILLING CODE 7510-01-P